DEPARTMENT OF HOMELAND SECURITY

Federal Emergency Management Agency

[Docket ID FEMA-2008-0022]

Criteria for Preparation and Evaluation of Radiological Emergency Response Plans and Preparedness in Support of Nuclear Power Plants, NUREG-0654/FEMA-REP-1, Supplement 4 and FEMA Radiological Emergency Preparedness Program Manual

AGENCY: Federal Emergency Management Agency, DHS.

ACTION: Notice of availability.

SUMMARY: The Federal Emergency Management Agency (FEMA) is issuing two final guidance documents: Supplement 4 (Supplement 4) to “Criteria for Preparation and Evaluation of Radiological Emergency Response Plans and Preparedness in Support of Nuclear Power Plants,” NUREG-0654/FEMA-REP-1, Revision 1 (NUREG-0654), and the Radiological Emergency Preparedness Program Manual (the REP Program Manual). Supplement 4 is a joint document issued by FEMA and the Nuclear Regulatory Commission (NRC) that contains the evaluation criteria against which FEMA and the NRC measure the emergency preparedness plans of nuclear power plant owners, operators and the State, local, and Tribal jurisdictions in which they reside. The REP Program Manual is intended to be the principal source of policy and guidance for State, local, and Tribal jurisdictions. Supplement 4 revises and provides additional offsite requirements for emergency preparedness programs at the Nation's nuclear power plants, as well as requirements for backup means for alert and notification and coordination between licensees and offsite responders. The REP Program Manual consolidates many of the REP Program's operative guidance and policy documents into one location, and provides additional guidance on Supplement 4 criteria. FEMA is also providing the public comment adjudication matrix for the REP Program Manual and Supplement 4.

DATES: Supplement 4 and the REP Program Manual are effective December 23, 2011.

ADDRESSES: Supplement 4, the REP Program Manual, and the public comment adjudication matrix are available online at www.regulations.gov under docket ID FEMA-2008-0022. You may also view hard copies of these documents at the Office of Chief Counsel, Federal Emergency Management Agency, Room 835, 500 C Street SW., Washington, DC 20472.

FOR FURTHER INFORMATION CONTACT: Craig Fiore, Policy, Regulations and Training Section Chief, Radiological Emergency Preparedness Branch, Technological Hazards Division, Protection and National Preparedness, National Preparedness Directorate, craig.fiore@dhs.gov, (703) 605-4218.

SUPPLEMENTARY INFORMATION: FEMA is issuing Supplement 4 and the REP Program Manual for implementation. These documents conform to changes in the NRC's emergency preparedness regulations, which are also effective December 23, 2011 and published in the Federal Register. The docket for the NRC rulemaking, Enhancements to Emergency Preparedness Regulations, RIN 3150-AI10, can be viewed on www.regulations.gov under Docket ID NRC-2008-0122.

FEMA published a notice of availability for the REP Program Manual and Supplement 4 on May 18, 2009, at 74 FR 23198. The original comment period was scheduled to conclude on August 3, 2009. After the May 18, 2009 publication of the notice of availability, FEMA and the NRC received several comments requesting that the period be extended beyond the original 75-day comment period. These requests suggested a range of more appropriate comment periods, lasting from 150 to 180 days. Various organizations cited the voluminous material put forth by the agencies for comment.

Because the proposed regulatory amendments and guidance documents cover many legal, regulatory, and policy matters that may require a time consuming review by licensees and their offsite counterparts, FEMA and the NRC determined that it was in the interest of all parties to extend the comment period to October 19, 2009. (74 FR 27557, June 10, 2009).

From June 2 through June 23, 2009, FEMA and the NRC jointly hosted a series of public meetings in various cities throughout the country. (74 FR 26418, June 2, 2009).

Supplement 4

As part of the domestic licensing of commercial nuclear power plants (NPPs), FEMA and the NRC evaluate emergency preparedness activities at these facilities. Preparedness activities for a radiological incident at an NPP are an essential part of planning and preparing for communities that could be affected by an incident at the facility. FEMA's role is to review and provide findings to the NRC on planning and preparedness activities of State, local, and Tribal governments, licensee emergency response organizations, if applicable, and other supporting organizations (collectively referred to as Offsite Response Organizations or OROs). FEMA performs this activity before the NRC issues a license to operate a NPP, as well as provides ongoing certifications that planning and preparedness efforts are effective and consistent with relevant regulatory guidelines. The NRC evaluates applicants for NPP site permits, construction permits, and operating licenses. As a part of that evaluation, the NRC reviews the licensees' emergency plans and preparedness efforts.

NPP licensees and OROs must show that they have plans in place that provide a reasonable assurance that adequate protective measures will be taken to protect public health and safety in the event of an incident at an NPP. FEMA evaluates the adequacy of the offsite plans and capabilities through the 16 planning standards that are contained in FEMA regulations at 44 CFR 350.5 and NRC regulations at 10 CFR part 50.

The NRC and FEMA have also developed a number of evaluation criteria that the agencies use to determine compliance with each of the 16 planning standards. Those evaluation criteria are contained in NUREG-0654 which is referred to in FEMA's regulations at 44 CFR 350.5, as well as in NRC regulations at 10 CFR part 50.

Supplement 4 provides additional guidance for the development, review, and evaluation of offsite radiological emergency response planning and preparedness surrounding the Nation's commercial NPPs. It addresses four emerging issues: (1) Aligning the offsite REP Program with national preparedness initiatives under Homeland Security Presidential Directives (HSPD) 5 and Presidential Policy Directive (PPD) 8; (2) preparing for and responding to hostile action-based (HAB) incidents at NPPs; (3) enhancing scenario realism and reducing negative training and pre-conditioned responses of exercise participants; and (4) ensuring backup means are in place for alert and notification systems. In addition, Supplement 4 revises and adds evaluation criteria and revises Appendix 3 of NUREG-0654. Although licensees and applicants may consult Supplement 4 for informational purposes, this supplement provides guidance to OROs with respect to preparing offsite plans and conducting exercises in a manner that will be found acceptable to FEMA and the NRC. Any requirements and guidance for licensees and applicants on the issues addressed in Supplement 4 are contained in NRC regulations in 10 CFR part 50 and NRC NSIR/DPR-ISG-01, Interim Staff Guidance, Emergency Planning for Nuclear Power Plants, respectively.

The REP Program Manual

The REP Program Manual provides guidance that interprets the planning standards and evaluation criteria contained in NUREG-0654 and 44 CFR part 350. This guidance provides additional detail to OROs in the vicinity of commercial NPPs on what FEMA expects OROs to include in their radiological emergency response plans. This manual also provides the assessment criteria that FEMA uses to evaluate the ability of the ORO communities to implement radiological emergency response plans. Lastly, this manual provides additional information and guidance to aid FEMA staff and OROs in performing the various functions under the REP Program (e.g., checklists, templates, references, etc.).

In August 2002, FEMA released an Interim REP Program Manual for use by OROs, nuclear power plant licensees, FEMA Regional staff, the NRC, and other stakeholders in developing plans or assessing planning and preparedness in communities surrounding the Nation's NPPs. In updating the 2002 Interim REP Program Manual, FEMA made important changes to both the language and the substance of the document. First, FEMA conducted a “plain English” review to produce a more easily understandable document by considering the audience's needs and avoiding unnecessary words, jargon, technical terms, and long and ambiguous sentences. Second, the new REP Program Manual provides guidance on the integration of contemporary national preparedness terms and concepts found in the National Incident Management System (NIMS)/Incident Command System (ICS) and the National Exercise Program, Homeland Security Exercise Evaluation Program (HSEEP). Further, the REP Program Manual provides additional guidance on the new or revised evaluation criteria proposed in Supplement 4 and the NRC's rulemaking. Because contemporary national preparedness terms and concepts are evolving, additional future revisions and modifications may be necessary to the REP Program Manual.

The REP Program Manual is divided into four main sections and includes additional appendices. Part I serves as an introduction and overview of the REP Program. It provides the history and establishment of the REP Program, a description of the review process, and the technical basis for the program. This section intends to provide a base knowledge about the program as well as a description of how the current program operates through a synopsis of the program's evolution since its inception.

Part II contains the NUREG-0654 planning standards and evaluation criteria, along with expansive explanations and guidance on materials to be included in ORO plans/procedures. This is a new section of the manual that clarifies but does not exceed the regulation nor does it replace 44 CFR part 350 or NUREG-0654 and is solely meant to provide guidance.

Part III discusses the Homeland Security Exercise and Evaluation Program (HSEEP) process and provides specific guidance unique to the design, development, conduct, evaluation, and improvement planning associated with REP exercise activities. This guidance is intended for use by REP controllers, evaluators, contractors, and any Federal, State, Tribal, or local agencies responsible for planning, preparing, and executing exercises that are used to validate REP Program requirements. This section provides licensee partners with guidelines regarding how the Federal government will coordinate exercise activities in conjunction with the REP Program.

Part IV is comprised of supporting reference documentation, where specific information is found in support of the program. It includes information on potassium iodide and disaster initiated reviews, scenario reviews, plan reviews, the Annual Letter of Certification (ALC), and other topics.

The appendices include acronyms, a glossary, historical REP references (active and retired), plant site identifier numbers and the Target Capabilities List.

The REP Program Manual incorporates and updates previously-issued FEMA Guidance Memoranda (GMs), policy memoranda, and some FEMA-REP series documents. The REP Program Manual effectively retires these documents from use as independent resources. Guidance on specific technical areas and other REP Program documents that FEMA was unable to incorporate have been retained as “technical references.” The remaining stand-alone FEMA-REP series documents and these technical references are listed in Appendix C and cited in the applicable parts of this proposed REP Program Manual. The retired guidance documents are listed in Appendix D as a historical resource. To the greatest extent possible, FEMA will issue all future REP Program guidance as amendments to the applicable parts of the REP Program Manual.

Authorities: DHS/FEMA issues the new REP Program Manual, and FEMA and the NRC jointly issue Supplement 4 to NUREG-0654 under the authority of: Reorganization Plan No. 3 of 1978; Presidential Directive of Dec. 7, 1979; Executive Order 12148 “Federal Emergency Management”; Section 201 of the Disaster Relief Act of 1974, 42 U.S.C. 5131, as amended by the Robert T. Stafford Disaster Relief and Emergency Assistance Act, Pub. L. 100-707, 102 Stat. 4689 (1988); Homeland Security Act of 2002, (Pub. L. 107-296) 6 U.S.C. 101 et seq.; NRC Authorization Acts of 1980 (Pub. L. 96-295) and 1982—1983 (Pub. L. 97-415); Atomic Energy Act of 1954, as amended 42 U.S.C. 2011 et seq.; Energy Reorganization Act of 1974 (Pub. L. 93-438), 42 U.S.C. 5801 et seq.; Energy Policy Act of 2005 (Pub. L. 109-58), 42 U.S.C. 15801 note; Homeland Security Presidential Directive 5: Management of Domestic Incidents; and Presidential Policy Directive 8: National Preparedness; 10 CFR part 50; 10 CFR part 50, Appendix E; and 44 CFR parts 350—354.

Dated: November 7, 2011.
W. Craig Fugate,
Administrator, Federal Emergency Management Agency.

[FR Doc. 2011-29733 Filed 11-22-11; 8:45 am]

BILLING CODE 9110-21-P